DEPARTMENT OF AGRICULTURE

Agricultural Marketing Service

[Doc. #AMS-CN-13-0091]

Recommendations of Advisory Committee on Universal Cotton Standards

AGENCY: Agricultural Marketing Service, USDA.

ACTION: Notice.

SUMMARY: The Agricultural Marketing Service (AMS) held meetings of the Universal Cotton Standards Advisory Committee in Raleigh, North Carolina on June 19, 20 and 21, 2013. This notice announces the Advisory Committee's recommendation to adopt USDA's HVI (High Volume Instrument) Cotton Trash Standards as Universal Standards and to change the frequency of Universal Cotton Standards Conferences from once every three years to once every four years. The meeting agenda, minutes, and recommendations from the Advisory Committee are posted at the following Web address: http://www.ams.usda.gov/AMSv1.0/AdvisoryCommitteeonUniversalStandards.

DATES: Comments must be received on or before February 18, 2014.

ADDRESSES: Interested persons are invited to submit comments concerning the Advisory Committee's recommendation using the following procedures:

• Internet: http://www.regulations.gov.

• Mail: Comments may be submitted by mail to: Darryl Earnest, Deputy Administrator, Cotton & Tobacco Programs, AMS, USDA, 3275 Appling Road, Room 11, Memphis, TN 38133. Comments should be submitted in triplicate. All comments should reference the docket number and the date and the page of this issue of the Federal Register. All comments will be available for public inspection during regular business hours at Cotton & Tobacco Program, AMS, USDA, 3275 Appling Road, Memphis, TN 38133. A copy of this notice may be found at: www.ams.usda.gov/cotton/rulemaking.htm.

FOR FURTHER INFORMATION CONTACT: James Knowlton, Designated Federal Official, Cotton & Tobacco Programs, AMS, USDA, 3275 Appling Road, Room 5, Memphis, TN 38133. Telephone (901) 384-3030, facsimile (901) 384-3032, or email Telephone (901) 384-3030, or email: James.Knowlton@ams.usda.gov.

SUPPLEMENTARY INFORMATION:

The purpose of the Universal Cotton Standards Advisory Committee is to consider any necessary changes to the Universal Cotton Standards and to review and approve freshly prepared sets of the Universal Cotton Grade Standards for conformity with the existing standards.

At the Universal Cotton Standards Conference on June 19-21, 2013, the Advisory Committee recommended revising the Universal Cotton Standards Agreement in regards to its recommendations of adopting a Universal HVI Cotton Trash Standard and changing the frequency of Universal Cotton Standards Conferences from once every three years to once every four years.

The Universal Cotton Standards Agreement is an Agreement between USDA, the U.S. cotton industry and overseas cotton associations of merchants and textile manufacturers that provides for the trading of U.S. cotton on the official standards of the U.S. for Upland cotton. Adoption of the Universal HVI Cotton Trash Standard will ensure that the USDA's cotton trash measurement serves as the internationally accepted universal language for cotton trash measurements. Adoption of the frequency of Universal Cotton Standards Conferences to be held once every four years will provide improved cost efficiency while continuing to provide the necessary framework for future considerations to the Universal Cotton Standards.

Authority: 7 U.S.C. 51-65.

Dated: January 10, 2014.
Rex A. Barnes,
Associate Administrator, Agricultural Marketing Service.

[FR Doc. 2014-00757 Filed 1-15-14; 8:45 am]

BILLING CODE 3410-02-P